DEPARTMENT OF HOMELAND SECURITY

Coast Guard

[Docket No. USCG-2019-0475]

Merchant Marine Personnel Advisory Committee

AGENCY: U.S. Coast Guard, Department of Homeland Security.

ACTION: Notice of Federal Advisory Committee meeting.

SUMMARY: The Merchant Marine Personnel Advisory Committee and its working groups will meet to discuss issues related to the training and fitness of merchant marine personnel. The meetings will be open to the public.

DATES:

Meetings: The Merchant Marine Personnel Advisory Committee and its working groups are scheduled to meet on Monday, September 16, 2019, from 1:00 p.m. until 5:30 p.m., Tuesday, September 17, 2019, from 8:00 a.m. until 5:30 p.m., and on Wednesday, September 18, 2019, from 8:00 a.m. until 5:30 p.m. These meetings may adjourn early if the Committee has completed its business.

Comments and supporting documentation: To ensure your comments are received by Committee members before the meetings, submit your written comments no later than September 11, 2019.

ADDRESSES: The meetings will be held at the U.S. Coast Guard National Maritime Center in the Dales Larson Room on the third floor, 100 Forbes Drive, Martinsburg, WV 25404-0001 (https://www.uscg.mil/nmc/).

Pre-registration Information: Pre-registration is required for access to U.S. Coast Guard, National Maritime Center. Foreign nationals participating will be required to pre-register no later than September 2, 2019, to be admitted to the meeting. U.S. citizens participating will be required to pre-register no later than September 11, 2019, to be admitted to the meeting. To pre-register, contact Mr. Davis Breyer at davis.j.breyer@uscg.mil or (202) 372-1445. You will be asked to provide your name and telephone number. In addition, please provide the company or group in which you are affiliated. Foreign nationals will also need to provide your country of citizenship, passport country, country of residence, place of birth, passport number, and expiration date. All attendees will be required to provide a REAL ID Act-compliant government-issued picture identification card in order to gain admittance to the building. For more information on REAL ID and to check the compliance status of your state/territory, please see https://www.dhs.gov/real-id and https://www.dhs.gov/real-id-public-faqs.

For information on facilities or services for individuals with disabilities or to request special assistance at the meeting, contact the individual listed in the FOR FURTHER INFORMATION CONTACT section of this notice.

Instructions: You are free to submit comments at any time, including orally at the meetings, but if you want Committee members to review your comment before the meetings, please submit your comments no later than September 11, 2019. We are particularly interested in comments on the issues in the “Agenda” section below. You must include “Department of Homeland Security” and the docket number USCG-2019-0475. Written comments may also be submitted using the Federal eRulemaking Portal at https://www.regulations.gov. If you encounter technical difficulties with comments submission, contact the individual listed in the FOR FURTHER INFORMATION CONTACT section below. Comments received will be posted without alteration at https://www.regulations.gov, including any personal information provided. You may review the Privacy and Security Notice for the Federal Docket Management System at https://www.regulations.gov/privacyNotice.

Docket Search: For access to the docket to read documents or comments related to this notice, go to https://www.regulations.gov, type USCG-2019-0475 in the “Search” box, press Enter, and then click on the item you wish to view.

FOR FURTHER INFORMATION CONTACT: Mr. Davis Breyer, Alternate Designated Federal Officer of the Merchant Marine Personnel Advisory Committee, 2703 Martin Luther King Jr. Ave. SE, Stop 7509, Washington, DC 20593-7509, telephone 202-372-1445, fax 202-372-8382 or davis.j.breyer@uscg.mil.

SUPPLEMENTARY INFORMATION: Notice of this meeting is in compliance to the Federal Advisory Committee Act, 5 U.S.C. App.

The Merchant Marine Personnel Advisory Committee is established under authority of U.S. Code, title 46, section 8108. The Committee acts solely in an advisory capacity to the Secretary of the Department of Homeland Security through the Commandant of the U.S. Coast Guard on matters relating to personnel in the United States merchant marine, including training, qualifications, certification, documentation, and fitness standards and other matters as assigned by the Commandant. The Committee also reviews and comments on proposed U.S. Coast Guard regulations and policies relating to personnel in the United States merchant marine, including training, qualifications, certification, documentation, and fitness standards.

Agenda

Day 1

The agenda for the September 16, 2019 meeting is as follows:

(1) The full Committee will meet briefly for organizational purposes.

(2) The members of the Committee and the attending public will meet in an informal discussion group in order to provide insights on the advantages and disadvantages of autonomous ships from an operational and training perspective.

(3) The members of the Committee and the attending public will meet in an informal discussion group in order to provide insights on the review of the International Convention on Standards of Training, Certification and Watchkeeping for Seafarers (STCW), 1978, as amended.

(4) Adjournment of meeting.

Day 2

The agenda for the September 17, 2019, meeting is as follows:

(1) The full Committee will meet briefly to discuss the working groups' business/task statements, which are listed under paragraph (2) (a)-(d) below.

(2) Working groups will separately address the following task statements which are available for viewing at https://homeport.uscg.mil/missions/ports-and-waterways/safety-advisory-committees/merpac;

(a) Task Statement 89, Review of MSC Circular MSC/Circ.1014, Guidelines on fatigue mitigation and management;

(b) Task Statement 90, Review of IMO Model Courses Being Validated by the IMO HTW Subcommittee;

(c) Task Statement 94, MERPAC Recommendation Review; and

(d) Task Statement 101, Communication Between External Stakeholders and the Mariner Credentialing Program.

(3) Working groups will separately address the following proposed task statements which are available for viewing at https://homeport.uscg.mil/missions/ports-and-waterways/safety-advisory-committees/merpac.

(a) Revised Task Statement 101, Provide feedback and avenues to further enhance open communication between external stakeholders and the U.S. Coast Guard's mariner credentialing program regarding all aspects of the program;

(b) Task Statement X-1, Military Education, Training and Assessment for STCW and National Mariner Endorsements;

(c) Task Statement 90 Addendum a, National Model Courses;

(d) Task Statement 101 Addendum b, Review of Coast Guard Forms.

(4) Public comment period.

(5) Reports of working groups. At the end of the day, the working groups will report to the full Committee on what was accomplished in their meetings. The full Committee will not take action on these reports on this date. Any official action taken as a result of these working group meetings will be taken on day three of the meeting.

(6) Adjournment of meeting.

Day 3

The agenda for the September 18, 2018 full Committee meeting is as follows:

(1) Introduction.

(2) Remarks from U.S. Coast Guard Leadership.

(3) Designated Federal Officer announcements.

(4) Roll call of Committee members and determination of a quorum.

(5) Reports from the following Working Groups:

(a) Task Statement 89, Review of MSC Circular MSC/Circ.1014, Guidelines on fatigue mitigation and management;

(b) Task Statement 90, Review of IMO Model Courses Being Validated by the IMO HTW Subcommittee;

(c) Task Statement 94, MERPAC Recommendation Review; and

(d) Task Statement 101, Communication Between External Stakeholders and the Mariner Credentialing Program;

(e) Task Statement X-1, Military Education, Training and Assessment for STCW and National Mariner Endorsements;

(f) Task Statement 90 Addendum a, National Model Courses;

(g) Task Statement 101 Addendum b, Review of Coast Guard Forms.

(7) Other items for discussion:

(a) Report on the Mariner Credentialing Program;

(b) USCG Federal Advisory Committee changes due to the Coast Guard Authorization Act of 2018;

(c) Report on National Maritime Center;

(d) Report on International Maritime Organization Activities affecting merchant mariner credentialing; and

(e) Briefings about other on-going U.S. Coast Guard projects related to personnel in the U.S. merchant marine.

(8) Public comment period.

(9) Discussion of Working Group recommendations. The Committee will review the information presented on each issue, deliberate on any recommendations presented by the Working Groups, approve/formulate recommendations and close any completed tasks. Official action on these recommendations may be taken on this date.

(10) Closing remarks/plans for next meeting.

(11) Adjournment of meeting.

A copy of all meeting documentation will be available at https://homeport.uscg.mil/missions/ports-and-waterways/safety-advisory-committees/merpac no later than September 11, 2018. Alternatively, you may contact Mr. Davis Breyer as noted in the FOR FURTHER INFORMATION CONTACT section above.

A public comment period will be held during each Working Group and full Committee meeting concerning matters being discussed. Public comments will be limited to three minutes per speaker. Please note that the public comment periods will end following the last call for comments.

Please contact the individual listed in the FOR FURTHER INFORMATION CONTACT section, to register as a speaker. Please note that the meeting may adjourn early if the work is completed.

Dated: August 15, 2019.
Jeffrey G. Lantz,
Director of Commercial Regulations and Standards.

[FR Doc. 2019-17891 Filed 8-19-19; 8:45 am]

BILLING CODE 9110-04-P